DEPARTMENT OF TRANSPORTATION

Federal Aviation Administration

Public Notice for a Change in Use of Aeronautical Property at Manchester Airport, Manchester, NH

AGENCY: Federal Aviation Administration (FAA), DOT.

ACTION: Request for public comments.

SUMMARY: The FAA is requesting public comment on the City of Manchester, New Hampshire's request to change a portion (.42 acres) of Airport property from aeronautical use to non-aeronautical use. The property is located on South Willow Street, Manchester, New Hampshire and is a portion of map 854, Lot 5 and Map 854, Lot 1B. Upon disposition the property will be used for the realignment of South Willow Street for Runway Safety Area Improvements at Manchester Airport, Manchester, New Hampshire. The property was acquired under AIP Project Nos. 3-33-0011-31 and 3-33-0011-67.

The disposition of proceeds from the disposal of airport property will be in accordance with FAA's Policy and Procedures Concerning the Use of Airport Revenue, published in the Federal Register on February 16, 1999.

DATES: Comments must be received on or before October 29, 2007.

ADDRESSES: Documents are available for review by appointment by contacting Mr. Richard Fixler, Assistant Airport Director, Engineering & Planning at Manchester Airport. Telephone (603) 628-6211, Ext. 519 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 124 of The Wendell H. Ford Aviation investment and Reform Act for the 21st Century (AIR 21) requires the FAA to provide an opportunity for public notice and comment to the “waiver” or “modification” of a sponsor's Federal obligation to use certain airport property for aeronautical purposes.

Dated: Issued in Burlington, Massachusetts on September 17, 2007.
LaVerne F. Reid,
Manager, Airports Division, New England Region.

[FR Doc. 07-4799 Filed 9-27-07; 8:45 am]

BILLING CODE 4910-13-M